DEPARTMENT OF TRANSPORTATION

Federal Aviation Administration

14 CFR Part 39

[Docket No. 2003-CE-01-AD]

RIN 2120-AA64

Airworthiness Directives; Pilatus Aircraft Ltd. Model PC-6 Airplanes

AGENCY: Federal Aviation Administration, DOT.

ACTION: Notice of proposed rulemaking (NPRM).

SUMMARY: This document proposes to adopt a new airworthiness directive (AD) that would apply to all Pilatus Aircraft Ltd. (Pilatus) Model PC-6 airplanes. This proposed AD would require you to inspect and correct, as necessary, the aileron control bellcrank assemblies at the wing and fuselage locations. This proposed AD is the result of mandatory continuing airworthiness information (MCAI) issued by the airworthiness authority for Switzerland. The actions specified by this proposed AD are intended to detect and correct increased friction in the aileron control bellcrank assemblies, which could result in failure of the aileron flight-control system. Such failure could lead to problems in controlling flight.

DATES: The Federal Aviation Administration (FAA) must receive any comments on this proposed rule on or before March 21, 2003.

ADDRESSES: Submit comments to FAA, Central Region, Office of the Regional Counsel, Attention: Rules Docket No. 2003-CE-01-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-01-AD” in the subject line. If you send comments electronically as attached electronic files, the files must be formatted in Microsoft Word 97 for Windows or ASCII text.

You may get service information that applies to this proposed AD from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. You may also view this information at the Rules Docket at the address above.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How do I comment on this proposed AD? The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the proposed rule. You may view all comments we receive before and after the closing date of the proposed rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2003-CE-01-AD.” We will date stamp and mail the postcard back to you.

Discussion

What events have caused this proposed AD? The Federal Office for Civil Aviation (FOCA), which is the airworthiness authority for Switzerland, recently notified FAA that an unsafe condition may exist on all Pilatus Model PC-6 airplanes. The FOCA reports one occurrence where the pilot reported increased friction on the ailerons. Inspection revealed unwanted axial movement of the aileron bellcrank assemblies, part numbers 6132.0071.51, 6132.0071.52, and 6232.0118.00. The axial movement is caused by deterioration of the adhesive bond around the bellcrank bearings which could cause the heads of the control cable attachment bolts to catch on the adjacent structure.

What are the consequences if the condition is not corrected? Increased friction in the aileron control bellcrank assemblies could result in failure of the aileron flight-control system. Such failure could lead to problems in controlling flight.

Is there service information that applies to this subject? Pilatus has issued Service Bulletin No. 27-001, dated June 5, 2002.

What are the provisions of this service information? The service bulletin includes procedures for:

—Inspecting, before removal, the bellcrank assemblies to identify which have a circlip installed;

—Removing the bellcrank assemblies;

—Inspecting the bellcrank assemblies for loose or worn bearings;

—Inspecting the control-cable attachment bolts for correct type and for rub damage;

—Staking and locking the bearing in the housings of the wing bellcranks; and

—Reinstalling the bellcrank assemblies.

What action did the FOCA take? The FOCA classified this service bulletin as mandatory and issued Swiss AD Number HB 2002-642, dated November 15, 2002, in order to ensure the continued airworthiness of these airplanes in Switzerland.

Was this in accordance with the bilateral airworthiness agreement? These airplane models are manufactured in Switzerland and are type certificated for operation in the United States under the provisions of § 21.29 of the Federal Aviation Regulations (14 CFR 21.29) and the applicable bilateral airworthiness agreement.

Pursuant to this bilateral airworthiness agreement, the FOCA has kept FAA informed of the situation described above.

The FAA's Determination and an Explanation of the Provisions of this Proposed AD

What has FAA decided? The FAA has examined the findings of the FOCA; reviewed all available information, including the service information referenced above; and determined that:

—The unsafe condition referenced in this document exists or could develop on other Pilatus Model PC-6 airplanes of the same type design that are on the U.S. registry;

—The actions specified in the previously-referenced service information should be accomplished on the affected airplanes; and

—AD action should be taken in order to correct this unsafe condition.

What would this proposed AD require? This proposed AD would require you to incorporate the actions in the previously-referenced service bulletin.

Cost Impact

How many airplanes would this proposed AD impact? We estimate that this proposed AD affects 32 airplanes in the U.S. registry.

What would be the cost impact of this proposed AD on owners/operators of the affected airplanes? We estimate the following costs to accomplish the proposed inspections and modifications:

Labor cost | Parts cost | Total cost per airplane | Total cost on U.S. operators
7 workhours × $60 per hour = $420 | $300 | $720 | $720 × 32 = $23,040.

We have no way of estimating costs to accomplish any necessary repairs that would be required based on the results of the proposed inspections. We have no way of determining the number of airplanes that may need such repair.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Pilatus Aircraft, Ltd.: Docket No. 2003-CE-01-AD.

(a) What airplanes are affected by this AD? This AD affects Model PC-6 airplanes, all manufacturer serial numbers (MSN) up to and including 939, that are certificated in any category.

(b) Who must comply with this AD? Anyone who wishes to operate any of the airplanes identified in paragraph (a) of this AD must comply with this AD.

(c) What problem does this AD address? The actions specified by this AD are intended to detect and correct increased friction in the aileron control bellcrank assemblies, which could result in failure of the aileron flight-control system. Such failure could lead to problems in controlling flight.

(d) What actions must I accomplish to address this problem? To address this problem, you must accomplish the following:

Actions | Compliance | Procedures
(1) Inspect, before removal, the wing bellcrank assemblies, part numbers (P/N) 6132.0071.51 and 6132.0071.52, for installed circlips, P/N N237. (i) If circlips are installed, perform the actions required in paragraphs (d)(5) and (d)(6). (ii) If circlips are not installed, perform all actions required by paragraphs (d)(3), (d)(4), (d)(5), (d)(6), and (d)(7). | Within the next 100 hours time-in-service (TIS) after the effective date of this AD, unless already accomplished | In accordance with Pilatus Aircraft Ltd. PC-6 Service Bulletin No. 27-001, dated June 5, 2002, and the applicable maintenance manual.
(2) Inspect, before removal, the fuselage bellcrank assembly, P/N 6232.0118.00, for the circlip installed on the housing to prevent axial movement of the bellcrank on its bearing and the flange of the housing to the rear. If the fuselage bellcrank assembly has either no circlip and/or is not installed as required, perform the actions in paragraphs (d)(8) and (d)(9). | Prior to further flight after the inspection required in paragraph (d)(1) of this AD | In accordance with Pilatus Aircraft Ltd. PC-6 Service Bulletin No. 27-001, dated June 5, 2002, and the applicable maintenance manual.
(3) Remove the wing bellcrank assemblies, P/Ns 6132.0071.51 and 6132.0071.52, and inspect for worn or damaged bearings. Replace worn or damaged bearings. | Prior to further flight after the inspections required in paragraphs (d)(1) and (d)(2) of this AD, as applicable | In accordance with Pilatus Aircraft Ltd. PC-6 Service Bulletin No. 27-001, dated June 5, 2002, and the applicable maintenance manual.
(4) Stake and lock the bearing in the housing of the wing bellcranks, P/Ns 6132.0071.51 and 6132.0071.52. | Prior to further flight after the inspections required in paragraphs (d)(1) and (d)(2) of this AD, as applicable | In accordance with Pilatus Aircraft Ltd. PC-6 Service Bulletin No. 27-001, dated June 5, 2002, and the applicable maintenance manual.
(5) Inspect the wing bellcranks control-cable attachment bolts for correct type and for signs of rub damage on the heads. Replace bolts which are damaged and/or have a total length (including head) of more than 21.5 mm (0.85 in.). | Prior to further flight after the inspections required in paragraphs (d)(1) and (d)(2) of this AD | In accordance with Pilatus Aircraft Ltd. PC-6 Service Bulletin No. 27-001, dated June 5, 2002, and the applicable maintenance manual.
(6) Inspect the wing bellcranks support plate for signs of rub damage caused by the bolts. If damage is found:
(i) Obtain a repair scheme from the manufacturer through FAA at the address specified in paragraph (f) of this AD
(ii) Incorporate this repair scheme. | Prior to further flight after the inspections required in paragraphs (d)(1) and (d)(2) of this AD | In accordance with Pilatus Aircraft Ltd. PC-6 Service Bulletin No. 27-001, dated June 5, 2002, and the applicable maintenance manual.
(7) Reinstall wing bellcrank assemblies. | Prior to further flight after the inspections required in paragraphs (d)(1) and (d)(2) of this AD | In accordance with Pilatus Aircraft Ltd. PC-6 Service Bulletin No. 27-001, dated June 5, 2002, and the applicable maintenance manual.
(8) Remove the fuselage bellcrank assembly, P/N 6232.0118.00, and inspect the housing for wear, damage, and signs of axial movement of the bearing in the housing. Replace worn or damaged bearings. If any signs of axial movement of a bearing are found:
(i) Obtain a repair scheme from the manufacturer through FAA at the address specified in paragraph (f) of this AD.
(ii) Incorporate this repair scheme. | Prior to further flight after the inspections required in paragraphs (d)(1) and (d)(2) of this AD | In accordance with Pilatus Aircraft Ltd. PC-6 Service Bulletin No. 27-001, dated June 5, 2002, and the applicable maintenance manual.
(9) Reinstall the fuselage bellcrank assembly. Ensure that the fuselage bellcrank assembly is installed so that the surface of the bellcrank with the flange of the housing is installed to the rear. The effect of this is to lock the bellcrank on the bearing tube and thus prevent movement. | Prior to further flight after the inspections required in paragraphs (d)(1), (d)(2) and (d)(8) of this AD | In accordance with Pilatus Aircraft Ltd. PC-6 Service Bulletin No. 27-001, dated June 5, 2002, and the applicable maintenance manual.
(10) Do not install any bellcrank assemblies, P/Ns 6132.0071.51, 6132.0071.52, and 6232.0118.00 (or FAA-approved equivalent part numbers), unless the aileron assembly has been inspected, modified, and installed. | As of the effective date of this AD | In accordance with Pilatus Aircraft Ltd. PC-6 Service Bulletin No. 27-001, dated June 5, 2002, and the applicable maintenance manual.

Note 1: Axial movement of serviceable bearings in the housings of the wing bellcranks is permitted provided no wear or damage to the bearing is found.

Note 2: Any signs of axial movement of a bearing in the housing of the fuselage bellcrank assembly requires that you obtain a repair scheme from the manufacturer through FAA at the address specified in paragraph (f) of this AD and incorporate the repair scheme.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) How do I get copies of the documents referenced in this AD? You may get copies of the documents referenced in this AD from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. You may view these documents at FAA, Central Region, Office of the Regional Counsel, 901 Locust, Room 506, Kansas City, Missouri 64106.

Note 4: The subject of this AD is addressed in Swiss AD Number HB 2002-642, dated November 15, 2002.

Issued in Kansas City, Missouri, on February 4, 2003.
Michael Gallagher,
Manager, Small Airplane Directorate, Aircraft Certification Service.

[FR Doc. 03-3449 Filed 2-11-03; 8:45 am]

BILLING CODE 4910-13-P